DEPARTMENT OF COMMERCE

National Oceanic and Atmospheric Administration

50 CFR Part 679

[Docket No. 161020985-7181-02]

RIN 0648-XF654

Fisheries of the Exclusive Economic Zone Off Alaska; Reallocation of Pacific Cod in the Bering Sea and Aleutian Islands Management Area; Correction

AGENCY: National Marine Fisheries Service (NMFS), National Oceanic and Atmospheric Administration (NOAA), Commerce.

ACTION: Temporary rule; reallocations; correction.

SUMMARY: NMFS is correcting a temporary rule that reallocated Pacific cod from vessels using jig gear and catcher vessels greater than or equal to 60 feet (18.3 meters) length overall (LOA) using hook-and-line gear to catcher vessels less than 60 feet (18.3 meters) LOA using hook-and-line or pot gear in the Bering Sea and Aleutian Islands management area. The amount reallocated from vessels using jig gear was incorrect.

DATES: Effective September 18, 2017 through 2400 hours, Alaska local time (A.l.t) December 31, 2017, and is applicable beginning August 30, 2017.

FOR FURTHER INFORMATION CONTACT: Obren Davis, 907-586-7228.

SUPPLEMENTARY INFORMATION:

Need for Correction

NMFS published the reallocation of Pacific cod on September 5, 2017 (82 FR 41899). The document contains incorrect amounts of Pacific cod to be transferred to catcher vessels less than 60 feet LOA using hook-and-line or pot gear from vessels using jig gear. These corrections will not affect the fishing operations. These corrections are necessary to provide the correct information about the amount of the Pacific cod transferred from vessels using jig gear and eliminate potential avoid confusion by fishery participants.

Correction

In the Federal Register of September 5, 2017, (82 FR 41899) in FR Doc. 2017-18733, on page 41900, column 1, paragraph 2, sentences 1 and 2 are corrected to read as follows:

“The Administrator, Alaska Region, NMFS, (Regional Administrator) has determined that jig vessels will not be able to harvest 1,186 mt of the remaining 2017 Pacific cod TAC allocated to those vessels under § 679.20(a)(7)(ii)(A)(1). Therefore, in accordance with § 679.20(a)(7)(iii)(A), NMFS apportions 1,186 mt of Pacific cod to the annual amount specified for catcher vessels less than 60 feet LOA using hook-and-line or pot gear.”

Classification

The Assistant Administrator for Fisheries, NOAA (AA), finds good cause to waive the requirement to provide prior notice and opportunity for public comment pursuant to the authority set forth at 5 U.S.C. 553(b)(B) as such requirement is impracticable and contrary to the public interest. This actions corrects an error that attributed the total amount of Pacific cod being transferred to catcher vessels less than 60 feet LOA using hook-and-line or pot gear from multiple sectors (1,612 mt), rather than the amount of Pacific cod being reallocated from vessels using jig gear (1,186 mt). This correction does not change operating practices in the fisheries. Corrections should be made as soon as possible to avoid confusion for participants in the fisheries.

The AA also finds good cause to waive the 30-day delay in the effective date of this action under 5 U.S.C. 553(d)(3). This finding is based upon the reasons provided above for waiver of prior notice and opportunity for public comment.

Authority: 16 U.S.C. 1801 et seq.

Dated: September 12, 2017.
Emily H. Menashes,
Acting Director, Office of Sustainable Fisheries, National Marine Fisheries Service.

[FR Doc. 2017-19628 Filed 9-15-17; 8:45 am]

BILLING CODE 3510-22-P